FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A Copy of the agreement is available through the Commission's Web site (www.fmc.gov) or by contacting the Office of Agreements at (202) 523-5793 or tradeanalysis@fmc.gov.

Agreement No.: 012182-001

Title: Hyundai Glovis/Eukor Car Carriers Inc. Space Charter Agreement

Parties: Hyundai Glovis Co. Ltd. and Eukor Car Carriers Inc.

Filing Party: Wayne R. Rohde, Esq.; Cozen O'Connor; 1627 I Street NW., Suite 1100, Washington, DC 20006-4007.

Synopsis: The amendment adds China to the geographic scope of the agreement.

By Order of the Federal Maritime Commission.
Dated: October 27, 2014.
Rachel E. Dickon,
Assistant Secretary.

[FR Doc. 2014-25847 Filed 10-29-14; 8:45 am]

BILLING CODE 6730-01-P